DEPARTMENT OF OF HEALTH AND HUMAN SERVICES

National Committee on Vital and Health Statistics: Meeting

Pursuant to the Federal Advisory Committee Act, the Department of Health and Human Services (HHS) announces the following advisory committee meeting.

Name: National Committee on Vital and Health Statistics (NCVHS) meeting jointly with the Board of Scientific Counselors of the National Center for Health Statistics, Centers for Disease Control and Prevention.

Time and Date: September 13, 2006 9 a.m.-3:50 p.m., September 14, 2006 9 a.m.-1:45 p.m.

Place: Hubert H. Humphrey Building, 200 Independence Avenue, SW., Room 705A, Washington, DC 20201.

Status: Open.

Purpose: At this meeting the Committee will hear presentations and hold discussions on several health data policy topics. On the morning of the first day the Committee will hear updates and status reports from the Department of various topics including activities of the HHS Data Council. They will review the full Committee retreat and the Executive Subcommittee meeting. They will discuss Subcommittee products. This discussion will continue in the afternoon followed by an update from the Healthcare Information Technology Standards panel.

On the morning of the second day the Committee will hear an update of Agency for Healthcare Quality and Research's quality indicator project, followed by reports from the NCVHS Subcommittees and Work Groups. This will be followed by the convening of the joint meeting with the Board of Scientific Counselors of the National Center for Health Statistics, Center for Disease Control and Prevention. The focus of the joint meeting will be on areas of common interests including new implications of confidentiality requirements in vital records for natality and mortality, re-engineering the vital statistics system and role of health information technology. This will be followed by a discussion of the process for future collaborations.

The times shown above are for the full Committee meeting. Subcommittee breakout sessions are scheduled for late in the afternoon of the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Diseases Control and Prevention, 3311 Toledo Road, Room 2402, Hyattsville, Maryland 20782, telephone (301) 458-4245. Information also is available on the NCVHS home page of HHS Web site: http://www.ncvhs.hhs.gov/, where further information including an agenda will be posted when available.

Should you require reasonable accommodation, please contact the CDC Office of Equal Employment Opportunity on (301) 458-4EEO (4336) as soon as possible.

Dated: August 11, 2006.
James Scanlon,
Deputy Assistant Secretary for Planning and Evaluation (OSDP), Office of the Assistant Secretary for Planning and Evaluation.

[FR Doc. 06-7024 Filed 8-17-06; 8:45 am]

BILLING CODE 4151-05-M